DEPARTMENT OF HOMELAND SECURITY

Transportation Security Administration

Extension of Agency Information Collection Activity Under OMB Review: Aviation Security Customer Satisfaction Performance Measurement Passenger Survey

AGENCY: Transportation Security Administration, DHS.

ACTION: 30-day notice.

SUMMARY: This notice announces that the Transportation Security Administration (TSA) has forwarded the Information Collection Request (ICR), OMB control number 1652-0013, abstracted below to the Office of Management and Budget (OMB) for review and approval of an extension of the currently approved collection under the Paperwork Reduction Act. The ICR describes the nature of the information collection and its expected burden. TSA published a Federal Register notice, with a 60-day comment period soliciting comments, of the following collection of information on March 11, 2010. 75 FR 11552. The collection involves surveying travelers to measure customer satisfaction of aviation security in an effort to more efficiently manage airport performance.

DATES: Send your comments by June 25, 2010. A comment to OMB is most effective if OMB receives it within 30 days of publication.

ADDRESSES: Interested persons are invited to submit written comments on the proposed information collection to the Office of Information and Regulatory Affairs, Office of Management and Budget. Comments should be addressed to Desk Officer, Department of Homeland Security/TSA, and sent via electronic mail to oira_submission@omb.eop.gov or faxed to (202) 395-6974.

FOR FURTHER INFORMATION CONTACT: Joanna Johnson, TSA Paperwork Reduction Act (PRA) Officer, Office of Information Technology (OIT), TSA-11, Transportation Security Administration, 601 South 12th Street, Arlington, VA 20598-6011; telephone (571) 227-3651; e-mail TSAPRA@dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0013; Aviation Security Customer Satisfaction Performance Measurement Passenger Survey. TSA, with OMB's approval, has conducted surveys of passengers and now seeks approval to continue this effort. TSA plans to conduct passenger surveys at airports nationwide. The surveys will be administered using an intercept methodology. The intercept methodology uses TSA personnel who are not in uniform to hand deliver paper business card style forms that contain a url address to an online survey to passengers immediately following the passenger's experience with the TSA's checkpoint security functions. Passengers are invited, though not required, to view and complete the survey via an online portal. The intercept methodology randomly selects times and checkpoints to select passengers to complete the survey in an effort to gain survey data representative of all passenger demographics-including passengers who—

• Travel on weekdays or weekends;

• Those who travel in the morning, mid-day, or evening;

• Those who pass through each of the different security screening locations in the airport;

• Those who are subject to more intensive screening of their baggage or person; and

• Those who experience different volume conditions and wait times as they proceed through the security checkpoints.

The survey includes ten to fifteen questions. Each question promotes a quality response so that TSA can identify areas in need of improvement. All questions concern aspects of the passenger's security screening experience.

TSA intends to collect this information in order to continue to assess customer satisfaction in an effort to more efficiently manage airport performance. In its future surveys, the TSA wishes to obtain more detailed, airport-specific data that the TSA can use to enhance customer experiences and airport performances. In order to gain more detailed information regarding customer experiences, the TSA is submitting eighty-one questions to OMB for approval. Twenty-eight of the questions have been previously approved by OMB and fifty-three questions are being submitted to the OMB for first-time approval. Each survey question seeks to gain information regarding one of the following categories:

• Confidence in Personnel.

• Confidence in Screening Equipment.

• Confidence in Security Procedures.

• Convenience of Divesting.

• Experience at Checkpoint.

• Satisfaction with Wait Time.

• Separation from Belongings.

• Separation from Others in Party.

• Stress Level.

Once a time and checkpoint is randomly selected, TSA personnel distribute forms to passengers until the TSA obtains the desired sample size. The samples can be selected with one randomly selected time and location or span multiple times and locations. Each airport uses a business card that directs customers to an online portal. All responses are voluntary and there is no burden on passengers who choose not to respond.

All airports have the capability to conduct this survey. Based on prior survey data and research, a sample size of 384 needs approximately 1,000 surveys. TSA assumes that there will be 384 respondents from 1,000 surveys distributed. At an inidividual airport, we assume the burden on passengers who choose to respond to be approximately five-minutes per respondent. Therefore, 384 respondents x 1 airport = 384 respondents a year. It takes approximately 5 minutes for each respondent to complete the survey so the total burden at one airport is 384 respondents x 5 minutes = 1,920 minutes or 32 hours per airport. We estimate that 25 airports will conduct the survey each year. Therefore, 384 respondents x 25 airports = 9,600 respondents a year. Since we assume it takes approximately 5 minutes for each respondent to complete the survey the total burden is 9,600 respondents x 5 minutes = 48,000 minutes, or 800 hours per year.

Title: Aviation Security Customer Satisfaction Performance Measurement Passenger Survey.

Type of Request: Extension of a currently approved collection.

OMB Control Number: 1652-0013.

Forms(s): Aviation Security Customer Satisfaction Performance Measurement Passenger Survey.

Affected Public: Airline Travelers.

Abstract: This airport survey represents an important part of TSA's efforts to collect data on customer satisfaction with TSA's aviation security procedures.

Number of Respondents: 9,600.

Estimated Annual Burden Hours: An estimated 800 hours annually.

Issued in Arlington, Virginia, on May 20, 2010.
Joanna Johnson,
TSA Paperwork Reduction Act Officer, Office of Information Technology.

[FR Doc. 2010-12603 Filed 5-25-10; 8:45 am]

BILLING CODE 9110-05-P